NUCLEAR REGULATORY COMMISSION

[Docket Number 030-04381]

Notice of Availability of Environmental Assessment and Finding of No Significant Impact for License Amendment for Pfizer Inc., Terre Haute, IN

AGENCY: Nuclear Regulatory Commission.

ACTION: Notice of availability of Environmental Assessment and Finding of No Significant Impact.

FOR FURTHER INFORMATION CONTACT: Dr. Peter J. Lee, Division of Nuclear Materials Safety, U.S. Nuclear Regulatory Commission, Region III, 801 Warrenville Road, Lisle, Illinois 60532-4351; telephone (630) 829-9870; or by e-mail at pjl2@nrc.gov.

SUPPLEMENTARY INFORMATION:

I. Introduction

The U.S. Nuclear Regulatory Commission (NRC) is considering the issuance of a license amendment Material License No. 13-10179-01 issued to Pfizer Inc. (the licensee), to terminate its license and authorize release of its Terra Haute, Indiana, facility for unrestricted use.

The NRC staff has prepared an Environmental Assessment (EA) in support of this licensing action in accordance with the requirements of 10 CFR part 51. Based on the EA, the NRC has concluded that a Finding of No Significant Impact (FONSI) is appropriate. The amendment will be issued following the publication of this Notice.

II. EA Summary

The purpose of the proposed action is to terminate Pfizer Inc.'s license and release its Terra Haute, Indiana, facility for unrestricted use. The NRC authorized Pfizer Inc. to utilize labeled compounds of H-3 and C-14 for research and development on July 17, 1964. On September 25, 2003, Pfizer Inc. submitted a license amendment request to terminate its license and release its Terra Haute facility for unrestricted use. Pfizer Inc. has conducted surveys of the facility and provided information to the NRC to demonstrate that the site meets the license termination criteria in subpart E of 10 CFR part 20 for unrestricted release. The staff has examined Pfizer Inc.'s request and the information that the licensee has provided in support of its request, including the surveys performed by Pfizer Inc. to demonstrate compliance with 10 CFR 20.1402, “Radiological Criteria for Unrestricted Use,” in order to ensure that the NRC's decision is protective of the public health and safety and the environment.

III. Finding of No Significant Impact

The staff has prepared the EA (summarized above) in support of Pfizer Inc.'s proposed license amendment to terminate its license and release the Terre Haute facility for unrestricted use. Based on its review, the staff has determined that the affected environment and the environmental impacts associated with the decommissioning of Pfizer Inc.'s facility are bound by the impacts evaluated by the “Generic Environmental Impact Statement in Support of Rulemaking on Radiological Criteria for License Termination of NRC-Licensed Nuclear Facilities” (NUREG-1496). Additionally, no non-radiological impacts were identified. The staff also finds that the proposed release for unrestricted use of the Pfizer Inc. facility is in compliance with the 10 CFR 20.1402, and finds no other activities in the area that could result in cumulative impacts. On the basis of the EA, the staff has concluded that the environmental impacts from the proposed action would not be significant. Accordingly, the staff has determined that a FONSI is appropriate, and has determined that the preparation of an Environmental Impact Statement is not warranted.

IV. Further Information

In accordance with 10 CFR 2.790 of the NRC's “Rules of Practice,” Pfizer Inc.'s request, the EA summarized above, and the documents related to this proposed action are available electronically for public inspection and copying from the Publicly Available Records (PARS) component of NRC's document system (ADAMS). ADAMS is accessible from the NRC Web site at http://www.nrc.gov/reading-rm/adams.html. These documents include Pfizer Inc.'s letter dated September 25, 2003, with enclosures (Accession No. ML040090414); and the EA summarized above (Accession No. ML040560303). These documents may also be viewed electronically on the public computers located at the NRC's Public Document Room (PDR), O 1 F21, One White Flint North, 11555 Rockville Pike, Rockville, MD 20852. The PDR reproduction contractor will copy documents for a fee. Persons who do not have access to ADAMS or who encounter problems in accessing the documents located in ADAMS, should contact the NRC PDR reference staff by telephone at 1-800-397-4209 or (301) 415-4737, or by e-mail to pdr@nrc.gov.

Dated at Lisle, Illinois, this 25th day of February, 2004.
Christopher G. Miller,
Chief, Decommissioning Branch, Division of Nuclear Materials Safety, RIII.

[FR Doc. 04-5857 Filed 3-15-04; 8:45 am]

BILLING CODE 7590-01-P